DEPARTMENT OF HEALTH AND HUMAN SERVICES

Indian Health Service

List of Recipients of Indian Health Scholarships under the Indian Health Scholarship Program

The regulations governing Indian Health Care Improvement Act Programs (Pub. L. 94-437) provide at 42 CFR 36.334 that the Indian Health Service shall publish annually in the Federal Register a list of recipients of Indian Health Scholarships, including the name of each recipient, school and tribal affiliation, if applicable. These scholarships were awarded under the authority of Sections 103 and 104 of the Indian Health Care Improvement Act, 25 U.S.C. 1613-1613a, as amended by the Indian Health Care Amendments of 1988, Pub. L. 100-713.

The following is a list of Indian Health Scholarship Recipients funded under Sections 103 and 104 for Fiscal Year 2000:

Abeita, Lynn Ann, Arizona State University, Pueblo of Isleta, NM

Abeita, Steven John, University of New Mexico-Albuquerque, Pueblo of Isleta, NM

Ables, Millicent Elaine, University of Kansas, Choctaw Nation of Oklahoma

Adams, Daniel Robert, North Dakota State University, Sisseton-Wahpeton Sioux Tribe of the Lake Traverse Reservation, SD

Alexander, Andrea Lynn, University of Central Oklahoma, Seminole Nation of Oklahoma

Allery, Crystal Vernelle, Minot State University, Turtle Mountain Band of Chippewa Indians of North Dakota

Allery, Cynthia Ann, University of North Dakota, Turtle Mountain Band of Chippewa Indians of North Dakota

Allery, Lonnie William, Turtle Mountain Community College, Turtle Mountain Band of Chippewa Indians of North Dakota

Allison, Rochelle Jade, Arizona State University, Navajo Tribe of AZ, NM & UT

Amiotte, Lowell Ralph, University of Wyoming, Oglala Sioux Tribe of the Pine Ridge Reservation, SD

Ammesmaki, Frank P., University of South Dakota School of Medicine, Minnesota Chippewa Tribe (Fond du Lac Band), MN

Anderson, Debbie Ann, Salish-Kootenai Community College, Confederated Salish & Kootenai Tribes of the Flathead Reservation, MT

Anderson, Sandra Dee, Arizona State University, Navajo Tribe of AZ, NM, & UT

Antonio, John Emery, University of New Mexico-Albuquerque, Pueblo of Laguna, NM

Apple, Jennifer Lynn, Old Dominion University, Choctaw Nation of Oklahoma

Arneson, Richelle Marie, University of Washington, Central Council of the Tlingit & Haida Indian Tribes

Arnold, Delphine, University of New Mexico-Gallup, Navajo Tribe of AZ, NM & UT

Ashley, Jeannette, New Mexico State University-Las Cruces, Navajo Tribe of AZ, NM & UT

Ashley, Natalie Lynn, Arizona State University, Navajo Tribe of AZ, NM & UT

Atcitty, Nichole Robin, University of New Mexico-Gallup, Navajo Tribe of AZ, NM & UT

Bacoch, Michaele, University of the Pacific School of Pharmacy, Big Pine Paiute Shoshone

Bailor, Jeanne Lesley, Bartlesville Wesleyan College, Cherokee Nation, Oklahoma

Barber, Tina, Northern Arizona University, Navajo Tribe of AZ, NM & UT

Barkhurst, Kip, University of New Mexico-Albuquerque, Navajo Tribe of AZ, NM & UT

Barnes, Carmen Rose, University of New Mexico-Albuquerque, Confederated Salish & Kootenai Tribes of the Flathead Reservation, MT

Barnes, Kellie Elizabeth, University of Oklahoma, Cickasaw Nation, Oklahoma

Bartholomew, Michael Lee, Dartmouth Medical School, Kiowa Indian Tribe of Oklahoma

Bates, Vanessicia, Arizona State University, Navajo Tribe of AZ, NM & UT

Becenti, Deann Lynn, University of New Mexico-Gallup, Navajo Tribe of AZ, NM & UT

Begay, Andreana, Northern Arizona University, Navajo Tribe of AZ, NM & UT

Begay, Bryant, Pima Medical Institute, Navajo Tribe of AZ, NM & UT

Begay, Michelle, University of Arizona, Navajo Tribe of AZ, NM & UT

Begay, Miranda, University of New Mexico College of Pharmacy, Navajo Tribe of AZ, NM, & UT

Begay, Mirielle Rose, University of New Mexico, Navajo Tribe of AZ, NM, & UT

Begay, Monica Calley, Colorado State University, Navajo Tribe of AZ, NM, & UT

Begay, Pierrette Rose, Arizona State University, Navajo Tribe of AZ, NM, & UT

Begay, Tamana Dollicia, University of the Pacific, Navajo Tribe of AZ, NM, & UT

Begaye, Wahaila Nizhoni, University of Utah, Navajo Tribe of AZ, NM, & UT

Behymer, Virginia May, University of Alaska-Anchorage, Aleut, AK

Belgarde, Vita Ann, University of North Dakota, Turtle Mountain Band of Chippewa Indians of North Dakota

Ben, Elaine Ann, University of New Mexico-Gallup, Navajo Tribe of AZ, NM, & UT

Benally, Annisa, New Mexico Highland University, Navajo Tribe of AZ, NM, & UT

Benally, Cheryl Lynn, Pima County Community College, Navajo Tribe of AZ, NM, & UT

Benally, Yolanda Jean, New Mexico State University, Navajo Tribe of AZ, NM, & UT

Bennett, Kennard Roger, Fort Lewis College, Navajo Tribe of AZ, NM, & UT

Berg, Ida W., University of Phoenix, Navajo Tribe of AZ, NM, & UT

Berquist, Melissa Dawn, University of North Dakota, Turtle Mountain Band of Chippewa Indians of North Dakota

Berryhill-Baker, Tishanda Leigh, University of Utah College of Medicine, Muskogee (Creek) Nation, Oklahoma

Betonie, Darlene Smith, University of Minnesota School of Nursing, Navajo Tribe of AZ, NM, & UT

Beyale, Justina, Northern Arizona University, Navajo Tribe of AZ, NM, & UT

Bighorn, Lisa Elaine, University of Denver, Assiniboine & Sioux Tribes of the Fort Peck Indian Reservation, MT

Bighorn, Prairie Rose, Rocky Mountain College, Assiniboine & Sioux Tribes of the Fort Peck Indian Reservation, MT

Billy, Matilda, New Mexico Highlands University, Navajo Tribe of AZ, NM, & UT

Blue Arm, Noelle E., Creighton University, Cheyenne River Sioux Tribe of the Cheyenne River Reservation, SD

Boatwright, Melinda Lea, East Central University, Choctaw Nation of Oklahoma

Booqua, Catherine, University of New Mexico-Gallup, Zuni Tribe of the Zuni Reservation, NM

Booth, Loretta Marie, Pacific University College, Cheyenne River Sioux Tribe of the Cheyenne River Reservation, SD

Boyd, Cassandra Iva, University of New Mexico-Gallup, Navajo Tribe of AZ, NM, & UT

Bradley, Stephanie, East Carolina University School of Medicine, Eastern Band of Cherokee Indians of North Carolina

Brantingham, Michael James, Pacific Union College, Eskimo

Brantley, Catrice Lashawnda, Oral Roberts University, Cherokee Nation, Oklahoma

Breland, Kylie Lea, University of North Dakota, Turtle Mountain Band of Chippewa Indians of North Dakota

Briggs, Misty Elaine, Northeastern State University, Cherokee Nation, Oklahoma

Brinson, Timothy James, East Central University, Citizen Potawatomi Nation, Oklahoma

Brock, Maria Tonita, University of California-Berkeley/School of Social Welfare, Pueblo of Laguna, NM

Brooks, Lisa Michelle, University of Maryland, Oglala Sioux Tribe of the Pine Ridge Reservation, SD

Brooks-Dugger, Shelly Beth, University of Texas-San Antonio, Cherokee Nation, Oklahoma

Brosel, Conrad Carl, Cardinal Stritch University, Oneida Tribe of Wisconsin

Brown, Christina Ann, University of Nevada-Las Vegas, Paiute-Shoshone Indians of the Bishop Community of the Bishop Colony, CA

Brown, Gerald Ray, Southwestern Oklahoma State University, Cherokee Nation, Oklahoma

Brown, Laverne, University of New Mexico-Gallup, Navajo Tribe of AZ, NM, & UT

Brown, Ryan David, University of Oklahoma Health Sciences Center, Choctaw Nation of Oklahoma

Bruce-Gallardo, Dawn Marie, University of North Dakota, Turtle Mountain Band of Chippewa Indians of North Dakota

Bryant, Joseph Preston, Southwestern Oklahoma State University, Cherokee Nation, Oklahoma

Buenting, Lisa Lynette, Loma Linda University, Mesa Grande Band of Diegueno Mission Indians of the Mesa Grande Reservation, CA

Burk, Kristi Carroll, Fort Lewis College, Alaska Native

Burris, Brandon Christopher, University of Nevada-Reno, Caddo Indian Tribe of Oklahoma

Burton, Marlette Alyce, Northland Pioneer College, Navajo Tribe of AZ, NM, & UT

Busch, Richard Eugene, University of Alaska-Fairbanks, Alaska Native

Butterfly, Glenn Curtis, Pima Medical Institute, Blackfeet Tribe of the Blackfeet Indian Reservation of MT

Cain, Marcia Lynnette, University of Montana School of Pharmacy, Sitka Tribe Community Association

Caldwell, Troy Tinsley, University of Oklahoma Health Sciences Center, Cherokee Nation, Oklahoma

Calvin, Shawn Allen, University of Oklahoma-Norman, Choctaw Nation of Oklahoma

Calvin-Salyer, Amber Lorine, Oklahoma State University, Choctaw Nation of Oklahoma

Campbell, David Wayne, University of Oklahoma-Norman, Cherokee Nation, Oklahoma

Campbell, Gabriel Antonio, University of North Dakota, Confederated Salish & Kootenai Tribes of the Flathead Reservation, MT

Campbell, Jamie Renae, University of Oklahoma, Muskogee (Creek) Nation, Oklahoma

Camplain-Guthrie, Jamie Lynn, University of Oklahoma, Choctaw Nation of Oklahoma

Cardenas, Christina Marie, Point Loma College, Salt River Pima-Maricopa Indian Community of the Salt River Reservation, AZ

Carpenter-Bryant, April Rachelle, University of Oklahoma Health Sciences Center, Chickasaw Nation, Oklahoma

Carroll, Ian Lorne, University of Washington School of Medicine, Alaska Native

Carter, Jason Daniel, University of Oklahoma Health Sciences Center, Cherokee Nation, Oklahoma

Cary, Brenda Lee, University of Minnesota-Duluth, Oneida Tribe of Wisconsin

Charles, Tracey Roseann, University of Tennessee-Memphis, Choctaw Nation of Oklahoma

Chase, Sheldon Eric, Columbia University School of Social Work, Hoopa Valley Tribe, CA

Chatter, Teddy Duke, University of Utah, Navajo Tribe of AZ, NM, & UT

Chavez, Carolyn Ann, Salish-Kootenai Community College, Navajo Tribe of AZ, NM, & UT

Chee, Darlene Begay, Northern Arizona University, Navajo Tribe of AZ, NM, & UT

Chimoni, Reinette J., University of New Mexico, Zuni Tribe of the Zuni Reservation, NM

Chythlook, William Thomas, Loma Linda University School of Medicine, Aleknagik/Eskimo

Clark, Doreen June, Carroll College, Native Village of Barrow Inupiat Traditional Government

Clark, Dorrance Dean, University of Michigan, Assiniboine & Sioux Tribes of the Fort Peck Indian Reservation, MT

Clay, Rondella Evelyn, East Central Oklahoma State University, Three Affiliated Tribes of the Ft. Berthold Reservation, ND

Cole, Jennifer Lyn, University of Oklahoma-Norman, Choctaw Nation of Oklahoma

Cooper, April Deann, University of Central Arkansas, Cherokee Nation, Oklahoma

Cooper, Benjamin Dale, Northeastern State University, Cherokee Nation, Oklahoma

Corson, Hillary Lena, Montana State University-Bozeman, Crow Tribe of Montana

Crocker-Ericson, Elizabeth Marie, University of Southern California School of Social Work, Cherokee Nation, Oklahoma

Cromer, Kelly Jenise, Southwestern Oklahoma State University, Cheyenne-Arapaho Tribes of Oklahoma

Cruz, Mark Deleon, Ft. Hays Kansas State College, Ysleta Del Sur Pueblo of Texas

Culver, Jennifer Lyn, Oklahoma State University, Cherokee Nation, Oklahoma

Cummings, James Jackson, Southwestern Oklahoma State University, Cherokee Nation, Oklahoma

Cunningham-Hartwig, Roxie Kim, University of Washington School of Medicine, Nez Perce of Idaho

Dahlen, Jencie Kay, University of North Dakota, Turtle Mountain Band of Chippewa Indians of North Dakota

Damon, Dezbaa Altaalkii, Arizona State University, Navajo Tribe of AZ, NM, & UT

Damon, Shawnell Deann, Arizona State University, Navajo Tribe of AZ, NM, & UT

Daugherty, Jamie Suzette, University of Oklahoma Health Sciences Center, Cherokee Nation, Oklahoma

Davidson, Kelly Ann Southern Illinois University-Carbondale, Aleut, AK

Davis, Allison Kay, University of North Dakota, Crow Creek Sioux Tribe of the Crow Creek Reservation, SD

Davis, Amber Lynn, University of Oklahoma, Muskogee (Creek) Nation, Oklahoma

Davis, Liisa Marie, University of North Dakota, Turtle Mountain Band of Chippewa Indians of North Dakota

Dawes, Kari Elaine, University of Iowa, Cherokee Nation, Oklahoma

De La Rosa, Ofelia Monique, University of Oklahoma School of Social Work, Delaware Nation, Oklahoma

Dean, Erica Rae, Oklahoma State University, Choctaw Nation of Oklahoma

Dearman, Callie Elizabeth, Oklahoma Baptist University, Cherokee Nation, Oklahoma

Decoteau, Chrystal Dawn, Rocky Mountain College, Blackfeet Tribe of the Blackfeet Indian Reservation of MT

Decoteau, Michele Germaine, Minot State University, Turtle Mountain Band of Chippewa Indians of North Dakota

Dele, Lessina, University of Arizona, Navajo Tribe of AZ, NM, & UT

Dement, Rachel Leah, Emory University School of Medicine, Oglala Sioux Tribe of the Pine Ridge Reservation, SD

Denson, Kent Douglas, University of Oklahoma Health Sciences Center, Chickasaw Nation, Oklahoma

Detmer, Sandra Joy, Modesto Junior College, Turtle Mountain Band of Chippewa Indians of North Dakota

Dewbre, George Eddie, Southeastern Oklahoma State University, Choctaw Nation of Oklahoma

Dickerson, Daniel Lee, College of Osteopathic Medicine of the Pacific, Eskimo

Dillon-Pilkington, Jada Lorene, Little Big Horn College, Crow Tribe of Montana

Dineyazhe, Dawn Capri, Northern Arizona University, Navajo Tribe of AZ, NM, & UT

Dixon, Damon Brian, University of North Dakota, Hopi Tribe of AZ

Dixon, Missena Elizabeth, University of Oklahoma, Seminole Nation of Oklahoma

Doney, Janice Marie, Salish-Kootenai Community College, Northern Cheyenne Tribe of the Northern Cheyenne Indian Reservation, MT

Downing, Leigh Anne, University of Texas, Chickasaw Nation, Oklahoma

Eby, Stacey Ann, California State University-San Bernardino, Northern Cherokee Tribe of MO & AR

Edwards, Kerry Rachelle, University of Oklahoma, Cherokee Nation, Oklahoma

Edwards, Ralph Casey, University of Oklahoma-Norman, Cherokee Nation, Oklahoma

Elliott, Billy Wayne, Northern Arizona University, Wyandotte Tribe of Oklahoma

Ellis, Scott Anthony, Rose State College, Cherokee Nation, Oklahoma

Engavo, Earlene Debra, University of Wyoming, Arapaho Tribe of the Wind River Reservation, WY

Eriacho, Margaret Alisha, University of New Mexico-Albuquerque, Zuni Tribe of the Zuni Reservation, NM

Esalio, Stacy Gwen, University of New Mexico-Albuquerque, Zuni Tribe of the Zuni Reservation, NM

Felton, Beverly Ann, Southwestern Oklahoma State University, Absentee-Shawnee Tribe of Indians of Oklahoma

Filteau, Sarah Louise, Bellin College of Nursing, Bad River Band of the Lake Superior Tribe of Chippewa Indians of the Bad River Reservation, WI

Fingerlin, Nancy Ellen, University of Oklahoma-Norman, Chickasaw Nation, Oklahoma

Fisher, Joe Keith, University of New Mexico, Choctaw Nation of Oklahoma

Fishinghawk, Bobbi Genevieve, Northeastern State University, Cherokee Nation, Oklahoma

Fleming, Stephani Rose, University of Wyoming, Turtle Mountain Band of Chippewa Indians of North Dakota

Foster, Shawna Leann, Northeastern State University, Cherokee Nation, Oklahoma

Francis, Molly Marie, Creighton University, Confederated Tribes of the Colville Reservation, WA

Franklin, Richard Arnold, Northeastern State University, Cherokee Nation, Oklahoma

Fred, Alana Renee, University of Arizona, Navajo Tribe of AZ, NM, &UT

Fredy, Jefferson, University of New Mexico College of Pharmacy, Navajo Tribe of AZ, NM, & UT

Freeman, Michael Scott, University of the Health Sciences College of Osteopathic Medicine, Cherokee Nation, Oklahoma

Freeman, Ryan Matthew, University of Oklahoma Health Sciences Center, Muskogee (Creek) Nation, Oklahoma

Frigerio, Sonya Renee, University of New Mexico-Gallup, Choctaw Nation of Oklahoma

Fryrear, Carrie Marie, Southwestern Oklahoma State University, Chickasaw Nation, Oklahoma

Fulgham, Tachazi Fulgham, University of Montana, Blackfeet Tribe of the Blackfeet Indian Reservation of MT

Gaddy, Jasmine Reanna, Temple University School of Medicine, Navajo Tribe of AZ, NM, & UT

Gardipee, Walter Thomas, University of Montana, Little Shell Tribe of Chippewa/Montana

Garness, Mary, University of Wisconsin-Superior, Bad River Band of the Lake Superior Tribe of Chippewa Indians of the Bad River Reservation, WI

Garza, Jolanda Evelyn, East Central Oklahoma State University, Pueblo of Jemez, NM

George, Lorita Ann, Mesa Community College, Navajo Tribe of AZ, NM, & UT

Gerry, Jon Michael, Stanford University, Cheyenne River Sioux Tribe of the Cheyenne River Reservation, SD

Gerry, Ryan Richard, MacAlester College, Cheyenne River Sioux Tribe of the Cheyenne River Reservation, SD

Glasses, Devin Garrick, University of Arizona, Navajo Tribe of AZ, NM, & UT

Glock, Jacquelyn, Crowder College, Choctaw Nation of Oklahoma

Gloshay, Jr., Eddie, University of Arizona, White Mountain Apache Tribe of the Ft. Apache Reservation, Arizona Wichita and Affiliated Tribes (Wichita, Keechi, Waco & Tawakonie), OK

Goodman, Gayla Beth, University of Maryland School of Medicine, Kickapoo Tribe of Oklahoma

Gordon-Mitchell, Jennifer Lynn, California State University, Red Cliff Band of Lake Superior Chippewa Indians of Wisconsin

Gorman, Marianita Elizabeth, University of New Mexico-Albuquerque, Navajo Tribe of AZ, NM, & UT

Grage, Bobbi Jo, Presentation College, Cheyenne River Sioux Tribe of the Cheyenne River Reservation, SD

Graham, Sara Wanbli, South Dakota State University, Oglala Sioux Tribe of the Pine Ridge Reservation, SD

Grant, Elizabeth Lee, Pima Medical Institute, Blackfeet Tribe of the Blackfeet Indian Reservation of MT

Gratz, Addie Beth, University of Oklahoma Health Sciences Center, Chicksaw Nation, Oklahoma

Gray, Cori Ann, University of Oklahoma, Osage Tribe, Oklahoma

Gray, Jason Charles, University of Oklahoma Health Sciences Center, Choctaw Nation of Oklahoma

Gray, Jennifer Anne, Langston University, Osage Tribe, Oklahoma

Gray, Mary Nell, East Central University, Choctaw Nation of Oklahoma

Grey, Michael, University of New Mexico-Albuquerque, Navajo Tribe of AZ, NM, & UT

Guin, Heather Elaine, University of Tulsa, Muskogee (Creek) Nation, Oklahoma

Gundrum-Acey, Barbara Lynne, Oregon Health Sciences University, Aleut, AK

Gust, Kateri Lyn, Salish-Kootenai Community College, Crow Tribe of Montana

Guy, Martina Rae, University of Arizona-Tucson, Navajo Tribe of AZ, NM, & UT

Hacker, John David, Hampton Institute, Rosebud Sioux Tribe of the Rosebud Indian Reservation, SD

Hagerty, Kori Lynn, University of New Mexico-Albuquerque, Blackfeet Tribe of the Blackfeet Indian Reservation of MT

Hall, Kent Harland, University of Central Oklahoma, Citizen Potawawatomi Nation, Oklahoma

Hall, Megan Sue, Northeastern State University, Choctaw Nation of Oklahoma

Hall, Raquel Ellen, University of California-Davis, Coastal Bank of the Chumash Nation

Hallberg, Laurie Ann, University of North Dakota, Cherokee Nation, Oklahoma

Harjo, Jim B., Oklahoma State University College of Osteopathic Medicine, Muskogee (Creek) Nation, Oklahoma

Harjo, Rebecca Ruth, University of Southern California School of Social Work, Muskogee (Creek) Nation, Oklahoma

Harnage, Julie Ann, University of Central Oklahoma, Cherokee Nation, Oklahoma

Harrison, Geniel, University of North Dakota, Confederated Tribes of Goshute Reservation, NV and UT

Hassen, Kathleen Lois, Western Michigan University, Sault Ste. Marie Tribe of Chippewa Indians of Michigan

Haugen, Julie Estelle, Bastyr University, Cherokee Nation, Oklahoma

Haukass, Nicole Marie, Creighton University College of Nursing, Rosebud Sioux Tribe of the Rosebud Indian Reservation, SD

Hawkins, Amy Delah, St. Gregory's University, Muskogee (Creek) Nation, Oklahoma

Hayes-Coons, Jennifer Lynn, Bacone College, Cherokee Nation, Oklahoma

Henry, Abraham John, Augsburg College, Turtle Mountain Band of Chippewa Indians of North Dakota

Henry, Ledonia Sue, University of Oklahoma Health Sciences Center, Cherokee Nation, Oklahoma

Henry, Liza Jo, Turtle Mountain Community College, Turtle Mountain Band of Chippewa Indians of North Dakota

Hensley, Gary Robert, University of Arizona, Sherwood Valley Rancheria of Pomo Indians of California

Henson-Meigs, Amy Jo, University of Tulsa, Cherokee Nation, Oklahoma

Henson-Samuels, Andrea Jean, Northeastern University, Cherokee Nation, Oklahoma

Hewlett, Lori, University of Colorado-Denver, Navajo Tribe of AZ, NM, & UT

Hick, Carrie, University of New Mexico College of Pharmacy, Navajo Tribe of AZ, NM, & UT

Hill, Paula Lynn, Western Michigan University, Sault Ste. Marie Tribe of Chippewa Indians of Michigan

Holland, Toni Jean, Montana State University-Billings, Fort Belknap Indian Community of the Fort Belknap Reservation of Montana

Homan, Colin Justin, University of Oklahoma-Norman, Chickasaw Nation, Oklahoma

Holmes, Michael Sterling, East Central University, Cheyenne-Arapaho Tribes of Oklahoma

Honaberger, David Anthony, University of Puget Sound, Pueblo of San Juan, NM

Horse, Lorena Dawn, University of Utah School of Social Work, Confederated Tribes of the Goshute Reservation, NV and UT

House, Irene A., University of New Mexico-Gallup, Navajo Tribe of AZ, NM, & UT

Houston, Lindsay Nicole, Bacone College, Cherokee Nation, Oklahoma

Howeya, Lori Ann, University of New Mexico-Albuquerque, Pueblo of Acoma, NM

Howling Wolf, William L., University of North Dakota, Three Affiliated Tribes of the Ft. Berthold Reservation, ND

Hudson, Jacqueline Coleen, University of Oklahoma, Turtle Mountain Band of Chippewa Indians of North Dakota

Hugues, Ross Neil, University of Iowa, Shoshone-Bannock Tribes of the Ft. Hall Reservation of Idaho

Huie, Rhonda Ruth, University of Oklahoma, Muskogee (Creek) Nation, Oklahoma

Hull, Debra Maney, Western Carolina University, Eastern Band of Cherokee Indians of North Carolina

Hulse, Hailey Vonn, Truman State University, Osage Tribe, Oklahoma

Hyden, Andreana Dee, Coconino County Community College, Navajo Tribe of AZ, NM, & UT

Imperial, Jessica Ladonna, Coconino County Community College, Navajo Tribe of AZ, NM & UT

Inge, Rudi Heath, University of Oklahoma Health Sciences Center, Choctaw Nation of Oklahoma

Ingram, Dena Gail, University of Oklahoma Health Sciences Center, Chickasaw Nation, Oklahoma

Ironmaker, Cheryl Diane, Montana State University-Northern, Assiniboine & Sioux Tribes of the Fort Beck Indian Reservation, MT

Ivanoff, Nora Rose, University of Washington, Eskimo

Jachim, Susan, Southwestern Oklahoma State University, Choctaw Nation of Oklahoma

James, Jessica Natasha, Northern Arizona University, Navajo Tribe of AZ, NM, & UT

Jensen, Barbara Kay, University of Phoenix, Oglala Sioux Tribe of the Pine Ridge Reservation, SD

Jensen, Vanessa, University of Arizona College of Medicine, Navajo Tribe of AZ, NM, & UT

Jesse, Michelle Nicole, East Central Oklahoma State University, Citizen Potawatomi Nation, Oklahoma

Johnson, Beverly Mae, University of Washington, Emmonak Village

Johnson, Jason Ray, University of North Dakota, Cherokee Nation, Oklahoma

Johnson, Jennifer Michelle, Washington University, Central Council of the Tlingit & Haida Indian Tribes

Johnson, Kevin Lee, Weber State University, Navajo Tribe of AZ, NM, & UT

Johnson, Norman Chris, Utah State University, Sisseton-Wahpeton Sioux Tribe of the Lake Traverse Reservation, SD

Johnson, Roxanne Marie, University of North Dakota, Turtle Mountain Band of Chippewa Indians of North Dakota

Johnson, Tara Lee, Northern Arizona University, Navajo Tribe of AZ, NM, & UT

Johnson, Veronica Renee, University of New Mexico-Albuquerque, Navajo Tribe of AZ, NM, & UT

Joice, Kelly A., University of Oklahoma, Cherokee Nation, Oklahoma

Joines, John Clifford, University of Oklahoma Health Sciences Center, Choctaw Nation of Oklahoma

Jones, Bernadine Rose, Northern Arizona University, Navajo Tribe of AZ, NM, & UT

Jones, Justin Duane, Northeastern State University, Cherokee Nation, Oklahoma

Jones, Lillian, University of Phoenix, Navajo Tribe of AZ, NM, & UT

Jordan, Michael James, Washington State University, Confederated Tribes of the Colville Reservation, WA

Julian, Serena Yazzie, University of New Mexico College of Pharmacy, Navajo Tribe of AZ, NM, & UT

Jumbo, Janice, Northern Arizona University, Navajo Tribe of AZ, NM, & UT

Juneau, Rose Ann, Salish-Kootenai Community College, Fort Belknap Indian Community of the Fort Belknap Reservation of Montana

Kady, Christiane Renee, University of Utah, Navajo Tribe of AZ, NM, & UT

Kanawite, Freida Mae, Albuquerque Tech-Voc Institute, Navajo Tribe of AZ, NM, & UT

Kanuho, Verdell, Northern Arizona University, Navajo Tribe of AZ, NM, & UT

Keen, Octa Emerald, Creighton University of College of Nursing, Omaha Tribe of Nebraska

Keene, Kristi Michelle, Southwestern Oklahoma State University, Cherokee Nation, Oklahoma

Kelley, Harlan Hunt, Southern Illinois University School of Medicine, Cherokee Nation, Oklahoma

Kenneth, Lena Mae, Arizona State University, Navajo Tribe of AZ, NM, & UT

King, Carla Jean, University of Montana, Fort Belknap Indian Community of the Fort Belknap Reservation of Montana

Kinlecheenie, Orlinda Lou, Northland Pioneer College, Navajo Tribe of AZ, NM, & UT

Kitto, Larrie Dale, Strayer University, Choctaw Nation of Oklahoma

Klah, Josephine, Northern Arizona University, Navajo Tribe of AZ, NM, & UT

Kodaseet, Patricia, University of Oklahoma-Norman, Cheyenne-Arapaho Tribes of Oklahoma

Krulish, Arlene Mary, University of North Dakota, Spirit Lake Tribe, SD

Krulish, Arliss Marie, University of North Dakota, Spirit Lake Tribe, SD

Lameman, Joann, University of Arizona, Navajo Tribe of AZ, NM, & UT

Lamere, Jennifer Jo, University of Oklahoma Health Sciences Center, Winnebago Tribe of Nebraska

Lampert, Rebeca Lynn, University of Arizona-Tucson, Navajo Tribe of AZ, NM, & UT

Lansing, Letitia Bianca, University of New Mexico-Albuquerque, Navajo Tribe of AZ, NM, & UT

Large, Stephanie Ashley, University of Oklahoma School of Social Work, Muskogee (Creek) Nation, Oklahoma

Largo, Dinah Mae, San Juan College, Navajo Tribe of AZ, NM, & UT

Larsen, Katherine Lynn, Weber State University, Ponca Tribe of Indians of Oklahoma

Latocha, Demetrius Hawkshield, University of Iowa, Standing Rock Sioux Tribe of N. & S. Dakota

Lauesen, Luanne Rae, University of Alaska School of Nursing, Gulkana Village

Laughter, Richard Kim, University of Utah College of Medicine, Navajo Tribe of AZ, NM, & UT

Laurence, Stacie, University of New Mexico, Navajo Tribe of AZ, NM, & UT

Laurence-Leslie, Faith Hope, Arizona State University, Navajo Tribe of AZ, NM, & UT

Lavender, Dorcas Mary, University of New Mexico-Albuquerque, White Mountain Apache Tribe of the Ft. Apache Reservation, Arizona Wichita and Affiliated Tribes (Wichita, Keechi, Waco & Tawakonie), OK

Lawhorn, William Andrew, University of Oklahoma Health Sciences Center, Cherokee Nation, Oklahoma

Lawrence, Gary Lynn, Carl Albert State College, Choctaw Nation of Oklahoma

Lawrence, Heather L., Cankdeska Cikana Community College, Spirit Lake Tribe, SD

Lawrence, Tammy D., University of North Dakota, Spirit Lake Tribe, SD

Lay, Pamela Christine, University of North Dakota, Muskogee (Creek) Nation, Oklahoma

LeBeau, Michael Edward, University of North Dakota, Cheyenne River Sioux Tribe of the Cheyenne River Reservation, SD

Leemhuis, Stephanie Brook, University of Oklahoma Health Sciences Center, Cherokee Nation, Oklahoma

Lewis, Rusty Oswald, University of North Dakota, Spirit Lake Tribe, SD

Lofgren, Paul Arthur, Johns Hopkins University, Cherokee Nation, Oklahoma

Long, Lorenda T., University of New Mexico-Albuquerque, Navajo Tribe of AZ, NM, & UT

Long-Likeric, Kendra Beth, University of Washington, Muskogee (Creek) Nation, Oklahoma

Longhair, Pauline Ann, University of New Mexico-Gallup, Navajo Tribe of AZ, NM, & UT

Looney, Joshua Carson, University of Oklahoma, Cherokee Nation, Oklahoma

Lopez-Martin, Tanya Elizabeth, University of Kansas School of Social Welfare, Pueblo of Pojoaque, NM

Louise, Linda, Portland Community College, Mooretown Rancheria of Maidu Indians of California

Lowe, Loretta, University of New Mexico-Gallup, Navajo Tribe of AZ, NM, & UT

Lowrance, Jody Lynn, University of Oklahoma Social of Social Work, Chickasaw Nation, Oklahoma

Luebke, Jeneile Marie, University of Wisconsin-Madison, Bad River Band of the Lake Superior Tribe of Chippewa Indians of the Bad River Reservation, WI

Lundgren, Roberta Toneena, University of Washington, Tulalip Tribes of the Tulalip Reservation, WA

Mahooty, Stephanie Juliet, Arizona State University, Zuni Tribe of the Zuni Reservation, NM

Malaterre, Jessica Kim, University of North Dakota, Turtle Mountain Band of Chippewa Indians of North Dakota

Mallon, Nicole Elizabeth, Springfield College, Cherokee Nation, Oklahoma

Malone, Thomas Edmund, University of Wisconsin-Madison, Citizen Potawatomi Nation, Oklahoma

Manuelito, Lenora Juanita, Santa Monica College, Navajo Tribe of AZ, NM, & UT

Mariano, Karoline Shirley, Northern Arizona University, Navajo Tribe of AZ, NM, & UT

Martell, Richard Patrick, University of North Dakota, Turtle Mountain Band of Chippewa Indians of North Dakota

Martin, Candelaria Cynthia, University of North Dakota, Navajo Tribe of AZ, NM, & UT

Martin, Shanda Renee, University of Minnesota-Minneapolis, Standing Rock Sioux Tribe of N. & S. Dakota

Martine, Cynthia Ann, University of North Dakota, Jicarilla Apache Tribe of the Jicarilla Apache Indian Reservation, NM

Martinez, Marie Jeannette, San Juan College, Navajo Tribe of AZ, NM, & UT

Mason, Cheryl Lynn, University of New Mexico, Navajo Tribe of AZ, NM, & UT

Mason, Laquita Joy, Montana State University-Billings, Three Affiliated Tribes of the Ft. Berthold Reservation, ND

Mathis, Trina, University of New Mexico-Albuquerque, Navajo Tribe of AZ, NM, & UT

Maxon, Jeff Allen, North Dakota State University, Cheyenne River Sioux Tribe of the Cheyenne River Reservation, SD

McCarthy, Vincent Paul, Cameron University, Comanche Indian Tribe, OK

McCuistion, Robin Edward, Western Washington University, Aleut, AK

McGlothin, Travis Michael, Harvard Medical School, Pueblo of Laguna, NM

Merchant, Nicole Dawn, Montana State University School of Nursing, Crow Tribe of Montana

Miles, Mary Kristen, Northern Oklahoma College, Osage Tribe, Oklahoma

Milford, Ginalori, University of New Mexico-Gallup, Navajo Tribe of AZ, NM, & UT

Miljur-Bryson, Pamela Michelle, University of Anchorage, Central Council of the Tlingit & Haida Indian Tribes

Miller, Marijai B., University of Alaska School of Nursing, Orutsararmuit Native Village (AKA Bethel)

Mitchell, Jessica Delphine, University of New Mexico-Gallup, Navajo Tribe of AZ, NM, & UT

Monette, Eugene Louis, University of North Dakota, Turtle Mountain Band of Chippewa Indians of North Dakota

Montano, Alicia Dawn, University of Arizona-Tucson, Navajo Tribe of AZ, NM, & UT

Montoya, Danny Dave, University of Alaska School of Nursing, Navajo Tribe of AZ, NM, & UT

Montoya, Marietta, University of New Mexico, Pueblo of Santa Ana, NM

Moore, Jennifer Marie, University of New Mexico-Albuquerque, Navajo Tribe of AZ, NM, & UT

Moore, Mark Wilburn, University of Texas SW Medical Center-Dallas, Cherokee Nation, Oklahoma

Moore, Mary Kathleen, Oklahoma State University College of Osteopathic Medicine, Cherokee Nation, Oklahoma

Morgan, Barbara L., New Mexico Highland University, Navajo Tribe of AZ, NM, & UT

Morris, Charla Jean, University of South Dakota, Cherokee Nation, Oklahoma

Morris, Elizabeth Lynette, University of Oklahoma Health Sciences Center, Muskogee (Creek) Nation, Oklahoma

Morris, Jeffrey Scott, University of Minnesota-Duluth, Quechan Tribe of the Fort Yuma Indian Reservation, CA & AZ

Morrison, Gerlinde Maria, Montana State University, Crow Tribe of Montana

Mose, Paula Marie, University of New Mexico-Gallup, Navajo Tribe of AZ, NM, & UT

Mose, Tallethea Ruth, University of New Mexico, Navajo Tribe of AZ, NM, & UT

Mousseau, Francine Louise, University of North Dakota, Oglala Sioux Tribe of the Pine Ridge Reservation, SD

Murphy, Tamelot Lynne, University of New Mexico-Albuquerque, Navajo Tribe of AZ, NM, & UT

Mushrush, Stephanie Ann, Riverside Community College, Washoe Tribe of Nevada & California

Naasz, Katrina Hillary, University of Colorado, Navajo Tribe of AZ, NM, & UT

Nason, Alvin James, University of North Dakota, Minnesota Chippewa Tribe (Leech Lake), MN

Needham, Laura, Shoreline Community College, Aleut, AK

Nelson, Shannon Lynn, University of New Mexico, Navajo Tribe of AZ, NM, & UT

Nelwood, Carolyn Dee, University of New Mexico-Gallup, Navajo Tribe of AZ, NM, & UT

Nephew, Lesley Ellen, Erie Community College, Seneca National of New York

Nez, Victoria, Northern Arizona University, Navajo Tribe of AZ, NM, & UT

Nidiffer-Shelor, Amber Lynn, University of Oklahoma-Norman, Cherokee Nation, Oklahoma

Nimsey, Dallas Micah, St. Gregory's College, Kiowa Indian Tribe of Oklahoma

Nioce, Paul Anthony, Washburn University, Citizen Potawatomi Nation, Oklahoma

Noisy Hawk, Lynelle Nancy, University of South Dakota, Oglala Sioux Tribe of the Pine Ridge Reservation, SD

Norton, Elizabeth Marie, Oregon Coast Community College, Confederated Tribes of the Siletz Reservation, OR

Nunn, Diana Lynn, Oklahoma City Community College, Muskogee (Creek) Nation, Oklahoma

Okleasik, Sara A., Pacific University, Nome Eskimo Community

Old Horn-Vondall, Carol Rose, University of Montana School of Pharmacy, Crow Tribe of Montana

Olic, Latona Michelle, University of Wyoming, Oglala Sioux Tribe of the Pine Ridge Reservation, SD

Olson, Jeremy Christ, University of North Dakota, Minnesota Chippewa Tribe (White Earth Band), MN

Ortiz, Lisa Dianne, Wayne State University School of Medicine, Cherokee Nation, Oklahoma

Owaleon, Mona Lynette, University of New Mexico-Albuquerque, Zuni Tribe of the Zuni Reservation, NM

Pack, Bruce Anthony, University of Louisiana-Monroe, Cherokee Nation, Oklahoma

Palacol, Christie Kahikuonalani, University of Oklahoma-Norman, Comanche Indian Tribe, OK

Palm, Toby James, Pacific University College, Cherokee Nation, Oklahoma

Panteah, Valda Marie, Albuquerque Technical Vocational Institute, Zuni Tribe of the Zuni Reservation, NM

Pappan, Cynthia Rae, Creighton University, Turtle Mountain Band of Chippewa Indians of North Dakota

Paquette, Jessica Maureen, Michigan State University, Sault Ste. Marie Tribe of Chippewa Indians of Michigan

Parisien, Anjanette Marie, University of North Dakota, Turtle Mountain Band of Chippewa Indians of North Dakota

Parisien, Audrey Lee, Minot State University, Turtle Mountain Band of Chippewa Indians of North Dakota

Parker, Adrienne, Mesa Community College, Navajo Tribe of AZ, NM, & UT

Paschall, Christopher Matthew, University of North Dakota, Chickasaw Nation, Oklahoma

Passman, Shawna Kay, Northeastern State University, Cherokee Nation, Oklahoma

Patnaude, Lawrence Andrew, North Dakota State University, Turtle Mountain Band of Chippewa Indians of North Dakota

Pearce, Judy Lynn, University of Oklahoma Health Sciences Center, Seminole Nation of Oklahoma

Peltier, Crystal Gayle, University of North Dakota, Turtle Mountain Band of Chippewa Indians of North Dakota

Peone, Amanda Lee, Salish-Kootenai Community College, Confederated Salish & Kootenai Tribes of the Flathead Reservation, MT

Pereira, Christina Charlene Bell, University of Arizona, Tohono O'odham Nation of Arizona

Peter, Myrna Elfrieda, University of Washington, Native Village of Fort Yukon

Pewenofkit, Rowena Jolene, University of Central Oklahoma, Kiowa Indian Tribe of Oklahoma

Phillips, Kristie Ann, University of Oklahoma Health Sciences Center, Citizen Potawatomi Nation, Oklahoma

Pino, Michelle Lynette, University of New Mexico, Navaho Tribe of AZ, NM, & UT

Pittman, Larry Hale, Ohio College of Podiatric Medicine, Choctaw Nation of Oklahoma

Poolaw, Audrey Winnie, Southwestern Oklahoma State University, Comanche Indian Tribe, OK

Poolaw, John Thomas, University of Hawaii-Manoa, Delaware Nation, Oklahoma

Potts, Richard Ray, University of Michigan, Chickasaw Nation, Oklahoma

Priest, Monica Eve, D'Youville College, Seneca Nation of New York

Pulis, Christine Dale, University of Alaska School of Nursing, Eskimo

Quam, Zellisha Alexis, University of New Mexico-Albuquerque, Zuni Tribe of the Zuni Reservation, NM

Quilt, Lucille Arlene, Grays Harbor College, Quinault Tribe of the Quinault Reservation, WA

Quintana, Alexandria Lynn, University of New Mexico, Navajo Tribe of AZ, NM, & UT

Quoshena, Tanya Cojomana, University of New Mexico-Gallup, Hopi Tribe of AZ

Radney-Vienote, Ruth W., University of the Pacific, Comanche Indian Tribe, OK

Red Elk, Lindsey Beth, Gateway Community College, Assiniboine & Sioux Tribes of the Fort Peck Indian Reservation, MT

Redfox-Freeman, Elizabeth Ann, Idaho State University, Shoshone-Bannock Tribes of the Ft. Hall Reservation of Idaho

Rhynes, Lisa Ann, University of Oklahoma Health Sciences Center, Muskogee (Creek) Nation, Oklahoma

Ridpath, Shandiin, University of Arizona, Navajo Tribe of AZ, NM, & UT

Riggs, Randall Wayne, University of New Mexico-Gallup, Cherokee Nation, Oklahoma

Riley, Gail Arlene, Albuquerque Tech Vocational Institute, Pueblo of Nambe, NM

Ritzhaupt, Amber, Northeastern State University, Eastern Band of Cherokee Indians of North Carolina

Roberts, Montgomery Lee, Oklahoma State University College of Osteopathic Medicine, Cherokee Nation, Oklahoma

Robinson, Charlene, University of Arizona, Navajo Tribe of AZ, NM, & UT

Robison-Rivera, Kristie Marie, Southwestern Oklahoma State University, Apache Tribe of Oklahoma

Rogers, Brandon Scott, Northeastern State University, Cherokee Nation, Oklahoma

Rolland, Geoffrey Grant, Oklahoma State University, Muskogee (Creek) Nation, Oklahoma

Ross, Cindy Lee, Arizona State University, Hopi Tribe of AZ

Rouse, Brant Philip, University of Oklahoma, Cherokee Nation, Oklahoma

Rucker, Jennifer Ann, University of Oklahoma Health Sciences Center, Cherokee Nation, Oklahoma

Ruleford, Miranda Louisa, University of Tulsa, Cherokee Nation, Oklahoma

Russell, Candice Dawn, University of Missouri-Kansas City, Cherokee Nation, Oklahoma

Ryan, Amy Jo, University of Montana School of Pharmacy, Cherokee Nation, Oklahoma

Sage, Della June, Sisseton Wahpeton Community College, Arapaho Tribe of the Wind River Reservation, WY

Saltclah, Waleste Maria, University of New Mexico-Albuquerque, Navajo Tribe of AZ, NM, & UT

Sanders, Catherine Blythe, University of North Carolina School of Medicine, Eastern Band of Cherokee Indians of North Carolina

Sandoval, Racheal Michele, Arizona State University, Navajo Tribe of AZ, NM & UT

Scalpane, Annette Andrea, Rocky Mountain College, Crow Tribe of Montana

Scalpcane-Moore, Lavonne Jean, Salish-Kootenai Community College, Northern Cheyenne Tribe of the Northern Cheyenne Indian Reservation, MT

Schmidt, Erin Michele, Oklahoma State University, Muskogee (Creek) Nation, Oklahoma

Schroeder, Dawn Marie, University of North Dakota, Turtle Mountain Band of Chippewa Indians of North Dakota

Scott, Brian Edward, University of Tulsa, Cherokee Nation, Oklahoma

Scott, Natasha Lynn, East Central Oklahoma State University, Mississippi Band of Choctaw Indians, MS

Scott, Steven Ray, Northeastern State University, Cherokee Nation, Oklahoma

Seabolt, Lynn Allen Lee, University of Arkansas-Little Rock, Muskogee (Creek) Nation, Oklahoma

Seible, Gennea Adelle, University of North Dakota, Three Affiliated Tribes of the Ft. Berthold Reservation, ND

Seubert, Andra Ruth, Washington State University, Nez Perce of Idaho

Shane, Allison Doreen, South Dakota State University, Alaska Native

Shangreau, Rhiannon Brook, Oglala Sioux Community College, Oglala Sioux Tribe of the Pine Ridge Reservation, SD

Shepard, Christopher Allan Joseph, Pomona College, Santee Sioux Tribe of the Santee Reservation of Nebraska

Shepard, Tsaina, Cameron University, Comanche Indian Tribe, OK

Shields, Deborah, East Central Oklahoma State University, Prairie Band of Potawatomi Indians, Kansas

Shinn, Darcy Marie, Northeastern State University, Cherokee Nation, Oklahoma

Shipley, Wade Paul, Rocky Mountain College, Turtle Mountain Band of Chippewa Indians of North Dakota

Shorty, Marsha Hagisbah, University of New Mexico-Albuquerque, Navajo Tribe of AZ, NM & UT

Show, Michelle Rae, Montana State University, Fort Belknap Indian Community of the Fort Belknap Reservation of Montana

Shunkamolah, William Henry, University of New Mexico-Albuquerque, Navajo Tribe of AZ, NM & UT

Simmons, Jeremiah David, Stanford University, Yankton Sioux Tribe of South Dakota

Sirmans, Jayna Deneice, Oklahoma State University, Choctaw Nation of Oklahoma

Skan, Eric Christopher, Washington State University College of Pharmacy, Ketchikan Indian Corporation

Skippergosh, Brenda Teller, Pima Medical Institute, Menominee Indian Tribe of Wisconsin

Slim, Geraldine Ann, Western New Mexico, Navajo Tribe of AZ, NM & UT

Sloan, Rick Michael Wesley, University of Colorado, Cherokee Nation, Oklahoma

Smith, Phyllis Marie, Salish-Kootenai Community College, Fort Belknap Indian Community of the Fort Belknap Reservation of Montana

Smith-Richerson, Crystal Lee, University of Oklahoma, Mississippi Band of Choctaw Indians, MS

Sockbeson, Dorothy A., Husson College, Penobscot of Maine

Spotted Horse, Patricia Jean, American University, Standing Rock Sioux Tribe of N. & S. Dakota

Spurlock, Cory Stephen, University of Oklahoma Health Sciences Center, Citizen Potawatomi Nation, Oklahoma

St. Claire, Billie Jo, North Dakota State University, Turtle Mountain Band of Chippewa Indians of North Dakota

Starbard, Karla Rachelle, University of Nevada-Reno, Craig Community Association

Stefaniak, Yvonne Chester, University of New Mexico-Gallup, Navajo Tribe of AZ, NM, & UT

Stewart, Daryl Lee, University of New Mexico-Gallup, Navajo Tribe of AZ, NM, & UT

Stover, Patrick Pete, University of Oklahoma, Chickasaw Nation, Oklahoma

Strobbe, Vonne Kay, University of New Mexico-Albuquerque, Assiniboine & Sioux Tribes of Fort Peck Indian Reservation, MT

Stuck, Andrew Timothy Lewis, University of Arizona, Navajo Tribe of AZ, NM, & UT

Summerlin, Allen William, University of the Pacific, Cherokee Nation, Oklahoma

Sutton, Stephanie D., University of Washington, Blackfeet Tribe of the Blackfeet Indian Reservation of MT

Sweeney, Michael Aaron, Brigham Young University, Choctaw Nation of Oklahoma

Swensen, Eric Carl, University of North Dakota, Aleut, AK

Swift, Jennifer Renae, University of Arizona, San Carlos Apache Tribe of the San Carlos Reservation, AZ

Tafoya, Tanya Calease, Mesa Community College, Comanche Indian Tribe, OK

Teasyatwho, Arlene Jean, University of New Mexico-Gallup, Navajo Tribe of AZ, NM, & UT

Teller, Pamela, Dine College, Narragansett Indian Tribe of Rhode Island

Teller, Tanya Corina, University of New Mexico-Albuquerque, Navajo Tribe of AZ, NM, & UT

Teller, Terry Lee, University of New Mexico-Albuquerque, Navajo Tribe of AZ, NM, & UT

Tempel, Dollie Luna, Montana State University-Billings, Navajo Tribe of AZ, NM, & UT

Tenequer, Valerie Leigh, Gateway Community College, Navajo Tribe of AZ, NM, & UT

Terrell, Mendy Renee, University of Oklahoma-Norman, Cherokee Nation, Oklahoma

Tescier, Echo, University of California-Berkeley/School of Social Welfare, Citizen Potawatomi Nation, Oklahoma

Thomas, Sheila R., University of New Dakota, Turtle Mountain Band of Chippewa Indians of North Dakota

Thomas, Veronica Rose, Mounty Marty College, Santee Sioux Tribe of the Santee Reservation of Nebraska

Thomason-Chavez, Felecia Elena, University of New Mexico-Albuquerque, Navajo Tribe of AZ, NM, & UT

Thompson, Paula Gail, Grand Canyon College, Navajo Tribe of AZ, NM, & UT

Todicheeney, Linda Lee, Northland Pioneer College, Navajo Tribe of AZ, NM, & UT

Todicheeney, Rydell, Arizona State University, Navajo Tribe of AZ, NM, & UT

Tolino, Gerilyn Ardith, New Mexico Highland University, Navajo Tribe of AZ, NM, & UT

Tom, Jolene A., Northern Arizona University, Navajo Tribe of AZ, NM, & UT

Tommie, Titania Leonila, Arizona State University, Navajo Tribe of AZ, NM, & UT

Torres, Tina Marie, Walla Walla College, Turtle Mountain Band of Chippewa Indians of North Dakota

Toya, Tirzah Marie, University of New Mexico-Albuquerque, Pueblo of Laguna, NM

Tsethlikia, Nina Marie, University of Phoenix, Zuni Tribe of the Zuni Reservation, NM

Tsingine, Georgia Lynn, University of Arizona College of Medicine, Navajo Tribe of AZ, NM, & UT

Tsosie, Orlando K., University of Utah, Navajo Tribe of AZ, NM & UT

Tunnell, Kimberly Renee, Oklahoma State University, Kiowa Indian Tribe of Oklahoma

Turner, Rayna June, Oklahoma State University, Apache Tribe of Oklahoma

Turney, Jarett Brandon, Northeastern State University, Cherokee Nation, Oklahoma

Tyner, Vera Alene, University of Oklahoma-Norman, Muskogee (Creek) Nation, Oklahoma

Upshaw, Juliana, Northern Arizona University, Navajo Tribe of AZ, NM & UT

Uttchin, Venus, University of Oklahoma-Norman, Muskogee (Creek) Nation, Oklahoma

Vaile, Marnie Lynn, Montana State University, Blackfeet Tribe of the Blackfeet Indian Reservation of MT

Valdo, Gerald David, Colorado State University, Pueblo of Acoma, NM

Vizier, Nakima Lynn, Huntingdon College, Haulapai Indian Tribe of the Hualapai Indian Reservation, AZ

Walkingstick, Chanel Ryan, Northeastern State Univeresity, Cherokee Nation, Oklahoma

Wallace, Kacey Leann, Oklahoma State University College of Osteopathic Medicine, Choctaw Nation of Oklahoma

Waquie, Monica Janet, Albuquerque Technical Vocational Institute, Pueblo of Jemez, NM

Watanabe, Elizabeth Ann, University of Hawaii-Monoa, Sitka Tribe of Alaska

Watford, Velma Jean, Pima Community College, Navajo Tribe of AZ, NM, & UT

Watson, Matthew Mendioro, Columbia University College of Physicians & Surgeons, Ottawa Tribe of Oklahoma

Weber, Shanna Renae, Michigan State University, Oneida Tribe of Wisconsin

Welch, Marvel Andrea, Western Carolina University, Eastern Band of Cherokee Indians of North Carolina

Wells, Elmer Bruce, North Dakota State University, Three Affiliated Tribes of the Ft. Berthold Reservation, ND

Wells, Shane E., Southern Adventist University, Central Council of the Tlingit & Haida Indian Tribes

West, Michael Clinton, Oklahoma State Unversity College of Osteopathic Medicine, Choctaw Nation of Oklahoma

Weston, Marnie Lee, Midwestern University, Cheyenne River Sioux Tribe of the Cheyenne River Reservation, SD

Wheeler Sheehy, Antonia Louise, North Park University, Blackfeet Tribe of the Blackfeet Indian Reservation of MT

White, Richard Kalvin, University of Utah, Navajo Tribe of AZ, NM, & UT

White, Sidney John, Marquette University, Oneida Tribe of Wisconsin

White, Tammy Jean, University of Buffalo, Seneca Nation of New York

Whited, Stephanie Lynn, University of Southern Mississippi, Nenana Native Association

Whitehair, Jennifer June, University of North Dakota, Navajo Tribe of AZ, NM, & UT

Whitehair, Rosalita Marie, University of New Mexico-Albuquerque, Navajo Tribe of AZ, NM, & UT

Wilcox, Amelia Mae, University of Phoenix, Navajo Tribe of AZ, NM, & UT

Willcuts, Peggy Sue, South Dakota State University, Rosebud Sioux Tribe of the Rosebud Indian Reservation, SD

Willeto, Virginia, University of New Mexico-Gallup, Navajo Tribe of AZ, NM, & UT

Williams, Alice, Coconino County Community College, Navajo Tribe of AZ, NM, & UT

Willman, Peggy Ann, University of Alaska, Native Village of Ambler

Wilson, Dana Lynn, University of New Mexico, Navajo Tribe of AZ, NM, & UT

Wilson, Dena Lynn, University of Washington, Oglala Sioux Tribe of the Pine Ridge Reservation, SD

Wilson, Ladonna Jean, Eastern Oklahoma State College, Cherokee Nation, Oklahoma

Wilson, Mackenzie Paulette, University of Arizona College of Pharmacy, Navajo Tribe of AZ, NM, & UT

Wilson, Sandra, University of Oklahoma, Northern Cheyenne Tribe of the Northern Cheyenne Indian Reservation, MT

Winstead, Quana Marie, College of Health Sciences, Eastern Band of Cherokee Indians of North Carolina

Wood, Chad Nathaniel, University of Utah College of Medicine, Cherokee Nation, Oklahoma

Woodin, Angeline Elizabeth, Grand Valley State Univ., Little Traverse Bay Bands of Odawa Indians of Michigan

Woodruff, Patience M., University of North Dakota, Rosebud Sioux Tribe of the Rosebud Indian Reservation, SD

Work, Hugh Edward, University of Oklahoma Health Sciences Center, Choctaw Nation of Oklahoma

Worker, Shanna Renee, Grand Canyon University, Navajo Tribe of AZ, NM, & UT

Wright, Christy Marine, Arizona State University, Nenana Native Association

Yandell, Seth David, University of Texas, Choctaw Nation of Oklahoma

Yazzie, Abiegail B., New Mexico Highland University, Navajo Tribe of AZ, NM, & UT

Yazzie, Charisse Lindsey, Scottsdale Community College, Navajo Tribe of AZ, NM, & UT

Yazzie, Irene, Weber State University, Navajo Tribe of AZ, NM, & UT

Yazzie, Kelly Colleen, Gateway Community College, Navajo Tribe of AZ, NM, & UT

Yazzie, Nazhone Paul, University of Arizona, Navajo Tribe of AZ, NM, & UT

Yazzie, Sharon, Northern Arizona University, Navajo Tribe of AZ, NM, & UT

Yazzie, Timothy, Midwestern University, Navajo Tribe of AZ, NM, & UT

Yoe, Carolyn Mae, Weber State University, Navajo Tribe of AZ, NM, & UT

Young, Evelyn Leone, Salish-Kootenai Community College, Confederated Salish & Kootenai Tribes of the Flathead Reservation, MT

Zwaryck, Shelby Leona, University of Montana School of Pharmacy, Chippewa Creek Indians of the Rocky Boy's Reservation, MT

FOR FURTHER INFORMATION CONTACT: The Indian Health Service Scholarship Between, Twinbrook Metro Plaza, 12300 Twinbrook Parkway, Suite 100, Rockville, Maryland, 20852, Telephone: (301) 443-6197, Fax: (301) 443-6048.

Dated: March 28, 2001.
Michel Lincoln,
Deputy Director.

[FR Doc. 01-8247 Filed 4-3-01; 8:45 am]

BILLING CODE 4160-16-M